DEPARTMENT OF HEALTH AND HUMAN SERVICES

National Institutes of Health

National Cancer Institute; Amended Notice of Meeting

Notice is hereby given of a change in the meeting of the National Cancer Institute Board of Scientific Advisors, March 28, 2022, 1:00 p.m. to March 29, 2022, 5:30 p.m., National Cancer Institute Shady Grove, 9609 Medical Center Drive, Rockville, MD 20850 which was published in the Federal Register on March 15, 2022, FR Doc 2022-05467, 87 FR 14544.

This notice is being amended to change the meeting end times on March 28, 2022 from 5:30 p.m. to 5:10 p.m. and on March 29, 2022 from 5:30 p.m. to 3:00 p.m. As such, the meeting will now be held from 1:00 p.m. to 5:10 p.m. on March 28, 2022 and from 1:00 p.m. to 3:00 p.m. on March 29, 2022. The location (Virtual) will stay the same. The meeting is open to the public.

Dated: March 22, 2022.
Melanie J. Pantoja,
Program Analyst, Office of Federal Advisory Committee Policy.

[FR Doc. 2022-06360 Filed 3-25-22; 8:45 am]

BILLING CODE 4140-01-P